COMMISSION ON CIVIL RIGHTS

Agenda and Notice of Public Meeting of the Wyoming Advisory Committee

Notice is hereby given, pursuant to the provisions of the rules and regulations of the U.S. Commission on Civil Rights, that a symposium of the Wyoming Advisory Committee to the Commission will convene at 1:30 p.m. and adjourn at 8 p.m. on Friday, November 22, 2002, at the Beta House, PO Box 3972, University of Wyoming, Laramie, Wyoming 82071. The Committee will conduct a symposium on education issues affecting minority and at-risk students in the Wyoming public secondary schools.

Persons desiring additional information, or planning a presentation to the Committee, should contact, John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, October 31, 2002.
Ivy L. Davis,
Chief, Regional Programs Coordination Unit.

[FR Doc. 02-28192 Filed 11-5-02; 8:45 am]

BILLING CODE 6335-01-P